DEPARTMENT OF AGRICULTURE

Office of the Secretary

Notice of Solicitation for Membership to the National Agricultural Research, Extension, Education, and Economics Advisory Board

AGENCY: Research, Education, and Economics, USDA.

ACTION: Solicitation for membership.

SUMMARY: In accordance with the Federal Advisory Committee Act, the United States Department of Agriculture announces solicitation for nominations of individuals to fill 10 vacancies on the National Agricultural Research, Extension, Education, and Economics Advisory Board (the Board). A nomination letter should be submitted to USDA and indicate the specific membership category or categories that the nominee is qualified to represent. Each nominee must fill out an AD-755 Form, called “Advisory Committee Membership Background Information.” This form may be obtained from the contact person below or may be printed out from the following Web site: http://www.nareeeab.com by selecting “Nominations” and then clicking on “Form AD-755.” All nominees will be vetted before consideration for appointment by the Secretary of Agriculture.

DATES: The deadline for submitting Advisory Board member nominations and the completed nominee Form AD-755 is July 29, 2005. Mail must be received or postmarked by this date to be considered.

ADDRESSES: A nomination letter and the completed AD-755 Form should be faxed and/or express mailed to the U.S. Department of Agriculture, National Agricultural Research, Extension, Education, and Economics Advisory Board Office, 1400 Independence Avenue, SW., Room 344-A, Jamie L. Whitten Building, Washington, DC 20250-2255. Standard mail will also be accepted but may be delayed significantly, because of security procedures.

FOR FURTHER INFORMATION CONTACT: Deborah Hanfman, Executive Director, National Agricultural Research, Extension, Education, and Economics Advisory Board, 1400 Independence Avenue, SW., Room 344-A, Whitten Building, Washington, DC 20250-2255,telephone: 202-720-3684; fax: 202-720-6199; e-mail: dhanfman@csrees.usda.gov.

SUPPLEMENTARY INFORMATION: The National Agricultural Research, Extension, Education, and Economics Advisory Board (the Board) was established by the Federal Agricultural Improvement and Reform Act of 1996 (Pub. L. 104-127, commonly called the 1996 Farm Bill) to provide advice to the Secretary of Agriculture and land-grant colleges and universities on national priorities and policies related to agricultural research, education, extension, and economics. An amendment in the 2002 Farm Security and Rural Investment Act (Pub. L. 107-171) states that the Board shall also provide consultation to: “the Committee on Agriculture of the House of Representatives, the Committee on Agriculture, Nutrition, and Forestry of the Senate, the Subcommittee on Agriculture, Rural Development, Food and Drug Administration and Related Agencies of the Committee on Appropriations of the House of Representatives, and the Subcommittee on Agriculture, Rural Development and Related Agencies of the Committee on Appropriations of the Senate.” Also, this amendment added one new member category to the Board—“(R) 1 member representing a non-land grant college or university with a historic commitment to research in the food and agricultural sciences.” This addition brings the total representation on the Advisory Board to 31 members. Each Board member is selected based on his/her leadership, affiliation, knowledge and expertise that represents a “specific stakeholder category” on the Advisory Board, as delineated in the 1996 Farm Bill. Since the Advisory Board's inception in 1996, members were appointed to serve staggered terms, so that every year, the terms for approximately one-third of the members expire. This notice is to solicit individuals who are qualified to represent at least one of the ten stakeholder categories listed below:

Category B. Farm Cooperatives

Category D. Plant Commodity Producer

Category G. National Aquaculture Association

Category J. National Food Science Organization

Category L. National Nutritional Science Society

Category M. 1862 Land-Grant Colleges and Universities

Category S. Member of Scientific Community not closely associated with Agriculture

Category BB. An Agency of USDA that Lacks Research Capabilities

Category CC. Research Agency of the Federal Government Other than USDA

Category EE. National Organizations directly concerned with Agricultural Research, Education, and Extension

The nominees submitted for these categories will be considered by the Secretary of Agriculture for appointment to the Advisory Board. The ten appointed members will serve a three-year term, beginning October 1, 2005 and ending September 30, 2008.

Nominations will be open to all individuals without regard to race, color, religion, sex, national origin, age, mental or physical handicap, marital status, or sexual orientation. To assure that recommendations of the Advisory Board take into account the needs of the diverse groups served by the Department, membership shall include, to the extent practicable, individuals with demonstrated ability to represent minorities, women, and persons with disabilities.

Appointments to the National Agricultural Research, Extension, Education, and Economics Advisory Board will be made by the U.S. Secretary of Agriculture.

Done at Washington, DC, this 13th day of May, 2005.
Rodney J. Brown,
Deputy Under Secretary, Research, Education, and Economics.

[FR Doc. 05-10210 Filed 5-20-05; 8:45 am]

BILLING CODE 3410-22-P